DEPARTMENT OF LABOR

Bureau of Labor Statistics

Information Collection Activities; Comment Request

AGENCY: Bureau of Labor Statistics, Department of Labor.

ACTION: Notice of information collection; request for comment.

SUMMARY: The Department of Labor, as part of its continuing effort to reduce paperwork and respondent burden, conducts a pre-clearance consultation program to provide the general public and Federal agencies with an opportunity to comment on proposed and/or continuing collections of information in accordance with the Paperwork Reduction Act of 1995. This program helps to ensure that requested data can be provided in the desired format, reporting burden (time and financial resources) is minimized, collection instruments are clearly understood, and the impact of collection requirements on respondents can be properly assessed. The Bureau of Labor Statistics (BLS) is soliciting comments concerning the proposed revision of the “Survey of Occupational Injuries and Illnesses.” A copy of the proposed information collection request (ICR) can be obtained by contacting the individual listed below in the Addresses section of this notice.

DATES: Written comments must be submitted to the office listed in the Addresses section of this notice on or before July 27, 2021.

ADDRESSES: Send comments to Nora Kincaid, BLS Clearance Officer, Division of Management Systems, Bureau of Labor Statistics, Room 4080, 2 Massachusetts Avenue NE, Washington, DC 20212. Written comments also may be transmitted by email to BLS_PRA_Public@bls.gov.

FOR FURTHER INFORMATION CONTACT: Nora Kincaid, BLS Clearance Officer, 202-691-7628 (this is not a toll free number). (See Addresses section.)

SUPPLEMENTARY INFORMATION:

I. Background

Section 24(a) of the Occupational Safety and Health Act of 1970 requires the Secretary of Labor to develop and maintain an effective program of collection, compilation, and analysis of statistics on occupational injuries and illnesses. The Commissioner of Labor Statistics has been delegated the responsibility for “Furthering the purpose of the Occupational Safety and Health Act by developing and maintaining an effective program of collection, compilation, analysis and publication of occupational safety and health statistics.” The BLS fulfills this responsibility, in part, by conducting the Survey of Occupational Injuries and Illnesses in conjunction with participating state statistical agencies. The BLS Survey of Occupational Injuries and Illnesses provides the Nation's primary indicator of the progress towards achieving the goal of safer and healthier workplaces. The survey produces the overall rate of occurrence of work injuries and illnesses by industry which can be compared to prior years to produce measures of the rate of change. These data are used to assess the Nation's progress in improving the safety and health of America's work places; to prioritize scarce federal and state resources; to guide the development of injury and illness prevention strategies; and to support Occupational Safety and Health Administration (OSHA) and state safety and health standards and research. Data are essential for evaluating the effectiveness of federal and state programs for improving work place safety and health. For these reasons, it is necessary to provide estimates separately for participating states.

Effective with the release of estimates from the Survey of Occupational and Injuries and Illnesses (SOII) in November 2023, the Bureau of Labor Statistics (BLS) will introduce the publication of a new biennial case and demographic data series for cases that involve days of job transfer or restriction (DJTR) for all industries. This shift will result in significant changes to the SOII news release and how publication tables are presented to provide additional data on the case circumstances and worker demographics for DJTR cases, in addition to details that have long been published for cases involving days away from work (DAFW). Biennial estimates for DJTR and DAFW will be released together. Summary industry estimates, produced annually, will remain unchanged.

II. Current Action

Office of Management and Budget clearance is being sought for the Survey of Occupational Injuries and Illnesses. The survey measures the overall rate of occurrence of work injuries and illnesses by industry for private industry, state governments, and local governments. For the more serious injuries and illnesses, those with days away from work (DAFW), the survey provides detailed information on the injured/ill worker (age, sex, race, industry, occupation, and length of service), the time in shift, and the circumstances of the injuries and illnesses classified by standardized codes (nature of the injury/illness, part of body affected, primary and secondary sources of the injury/illness, and the event or exposure which produced the injury/illness).

Days of job transfer or restriction (DJTR) cases have become more prevalent since 1992 when detailed data were first collected only for days-away-from-work (DAFW) cases. In 1992, DJTR cases accounted for 21 percent of total days away from work, days of restricted work activity, or job transfer cases (DART). By 2011, DJTR accounted for 40 percent of these cases. At that time, the Bureau of Labor Statistics (BLS) began a series of three 3-year pilot studies from 2011-19 to collect DJTR case details for select industries. When these pilot studies concluded with 2019 data, DJTR cases accounted for 43 percent of DART cases.

The aforementioned pilot studies conducted by the BLS were intended to learn more about occupational injuries and illnesses that resulted in days of job transfer or work restriction (DJTR) by comparing the circumstances and worker characteristics of injuries and illnesses that required days away from work (DAFW) to recuperate and those that led to DJTR only. Detailed data on DJTR cases will lead to a better understanding of how occupational injuries and illnesses are managed and give a more complete accounting of the types of injuries and illnesses that occur to workers and how they occurred. Prior to these pilot studies, the BLS Survey of Occupational Injuries and Illnesses (SOII) collected and published only data on the case circumstances and worker characteristics for DAFW cases. These pilot studies expanded the SOII to collect and report the same detail for DJTR cases for select industries. Data from these pilots can be found at https://www.bls.gov/iif/soii-data.htm#djtr.

The proportion of DJTR cases as a percentage of DART cases among private industry overall has trended higher since 1992, while the proportion of DAFW cases has trended downward over this period. Both the incidence rate and number of cases of DJTR has exceeded that of DAFW in the manufacturing industry sector since the late 1990s. The pilot collection of DJTR case details has provided important insights into workplace safety and health data that were previously unavailable. Analysis of DJTR data showed that their inclusion provides a more complete understanding of the circumstances leading to occupational injuries and illnesses than DAFW cases alone can provide. For example, DJTR cases as a percentage of DART cases in the Food services and drinking places industry remained the same regardless of the age of the worker. While in the Amusement, gambling, and recreation industry, workers under the age of 45 had a higher percentage of DJTR cases than DAFW cases. If studying only a few selected industries, policy makers and researchers would be unable to determine the complete picture of this phenomenon. If all industries could be analyzed, safety resources and return-to-work strategies could be developed to address the unique work experiences by the age of the worker or by other characteristics.

Based on the findings from these studies and the depth of information they produced, as well as the recommendation from the National Academy of Sciences (NAS) A Smarter National Surveillance System for Occupational Safety and Health in the 21st Century,¹ the BLS decided to collect information on DJTR cases for all industries. Particularly, Recommendation A from Chapter 4 of the NAS report noted, “BLS should routinely collect detailed case and demographic data for injuries and illnesses resulting in job transfer or restricted duty as well as those resulting in days away from work.” The report further notes that this could be easily accomplished in the short term with minimal impact to respondent burden due to the fact that these data are already recorded by employers.

¹ See https://www.nap.edu/catalog/24835/a-smarter-national-surveillance-system-for-occupational-safety-and-health-in-the-21st-century.

III. Desired Focus of Comments

The Bureau of Labor Statistics is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology, e.g., permitting electronic submissions of responses.

Title of Collection: Survey of Occupational Injuries and Illnesses.

OMB Number: 1220-0045.

Type of Review: Revision of a currently approved collection.

Affected Public: Businesses or other for-profits; Not-for-profit institutions; Farms; State, Local or Tribal Governments.

BLS 9300 Respondent Burden Estimates
Form 9300 | Total respondents | Frequency | Total responses | Average time per response (minutes) | Estimated burden hours
Total Reporting Burden | 86,200 | Annually | 86,200 | 63.698 | 91,513
Total Recording Burden | 232,800 | Annually | 232,800 | 24.831 | 96,346
Totals | 232,800 | Annually | 232,800 |  | 187,859

Comments submitted in response to this notice will be summarized and/or included in the request for Office of Management and Budget approval of the information collection request; they also will become a matter of public record.

Signed at Washington, DC, this 25th day of May 2021.
Leslie Bennett,
Acting Chief, Division of Management Systems.

[FR Doc. 2021-11367 Filed 5-27-21; 8:45 am]

BILLING CODE 4510-24-P